DEPARTMENT OF DEFENSE

Office of the Secretary

Threat Reduction Advisory Committee; Notice of Closed Federal Advisory Committee Meeting

AGENCY: Department of Defense (DoD), Office of the Under Secretary of Defense (Acquisition, Technology, and Logistics).

ACTION: Federal advisory committee meeting notice.

SUMMARY: The Department of Defense announces the following closed Federal advisory committee meeting of the Threat Reduction Advisory Committee (TRAC).

DATES: Thursday, May 5, 2016, from 8:30 a.m. to 5:00 p.m. and Friday, May 6, 2016, from 8:30 a.m. to 3:00 p.m.

ADDRESSES: CENTRA Technology Inc., Ballston, VA on May 5, 2016, and CENTRA Technology, Inc. and the Pentagon, Arlington, Virginia on May 6, 2016.

FOR FURTHER INFORMATION CONTACT: Mr. William Hostyn, DoD, Defense Threat Reduction Agency (DTRA) J2/5/8R-AC, 8725 John J. Kingman Road, MS 6201, Fort Belvoir, VA 22060-6201. Email: william.p.hostyn.civ@mail.mil. Phone: (703) 767-4453. Fax: (703) 767-4206.

SUPPLEMENTARY INFORMATION: Purpose of Meeting: This meeting is being held under the provisions of the Federal Advisory Committee Act of 1972 (FACA) (5 U.S.C., Appendix, as amended), the Government in the Sunshine Act of 1976 (5 U.S.C. 552b, as amended), and 41 CFR 102-3.150. The TRAC will obtain, review and evaluate classified information related to the Committee's mission to advise on technology security, Combating Weapons of Mass Destruction (CWMD), counterterrorism and counterproliferation.

Agenda: All discussions for the two day meeting will be classified at the secret level or higher. On Thursday, May 5, the Designated Federal Officer, William Hostyn, will make his remarks and then the Chair will open the meeting with comments that outline the topics to be covered in the two day meeting. Following the opening remarks, the TRAC will hear from the Principal Deputy, Performing the Duties of the Assistant Secretary of Defense for Nuclear, Chemical, and Biological Defense Programs, Dr. Arthur T. Hopkins on updates regarding the Unified Command Plan changes, funding issues, as well as other developments related to CWMD. Following that brief, there will be a classified intelligence briefing covering North Korea's recent provocations with missile tests and China's role in the region. The TRAC will then receive a classified brief on global CWMD intelligence issues from Mr. Hollatz with the National Counterproliferation Center. Next, the TRAC will hear from Mr. Baker of the Office of Net Assessment on observations regarding Russia and the Near Abroad. Following the discussion, the TRAC will discuss findings on the Future Challenges for the Defense Threat Reduction Agency (DTRA) and the implications for the Agency going forward. Specifically, how will the impending changes to the Unified Command Plan affect the mission of DTRA. The group will then consider recent provocations by North Korea, and hear an in-progress report on the North Korea study. The first day will conclude with a TRAC session to deliberate and finalize recommendations in preparation for the meeting on day two with the TRAC's sponsor, Under Secretary of Defense for Acquisition, Technology and Logistics, Mr. Kendall.

The TRAC will continue to meet on May 6, 2016. The TRAC will receive a classified brief from retired General Carns on Russia and issues related to CWMD based upon his recent trips and meetings with high-level leaders in the region. The briefing will be followed by a closed session led by Hon. Koch and Dr. Reichart on Russian provocations and the relationship to nuclear strategic stability in the region. Hon. Benkert and Dr. Choi will follow suit with a session on China. Amb Lehman will discuss future efforts of the TRAC and the way forward in 2016-2017 based upon the sponsor's guidance and direction. The TRAC will then transition to the Pentagon, where they will provide Under Secretary Kendall with a brief from the previous days meeting. At the conclusion of the discussion, the Chair will adjourn the 37th Plenary.

Meeting Accessibility: Pursuant to section 10(d) of the FACA, 5 U.S.C. 552b(c), and 41 CFR 102-3.155, the Department of Defense has determined that the meeting shall be closed to the public. The Under Secretary of Defense for Acquisition, Technology, and Logistics, in consultation with the Department of Defense FACA Attorney, has determined in writing that the public interest requires all sessions of this meeting be closed to the public because the discussions will be concerned with classified information and matters covered by 5 U.S.C. 552b(c)(1). Such classified matters are inextricably intertwined with the unclassified material and cannot reasonably be segregated into separate discussions without disclosing secret-level or higher material.

Advisory Committee's Designated Federal Officer or Point of Contact: Mr. William Hostyn, DoD, Defense Threat Reduction Agency/J/2/5/8R-ACP, 8725 John J. Kingman Road, MS 6201, Fort Belvoir, VA 22060-6201.

Email: william.p.hostyn.civ@mail.mil. Phone: (703) 767-4453. Fax: (703) 767-4206.

Written Statements: Pursuant to section 10(a)(3) of FACA and 41 CFR 102-3.105(j) and 102-3.140, the public or interested organizations may submit written statements to the membership of the Committee at any time or in response to the stated agenda of a planned meeting. Written statements should be submitted to the Committee's Designated Federal Officer. The Designated Federal Officer's contact information is listed in this notice, or it can be obtained from the General Services Administration's FACA Database: http://www.facadatabase.gov/committee/committee.aspx?cid=1663&aid=41. Written statements that do not pertain to a scheduled meeting of the TRAC may be submitted at any time. However, if individual comments pertain to a specific topic being discussed at a planned meeting, then these statements must be submitted no later than five business days prior to the meeting in question. The Designated Federal Officer will review all submitted written statements and provide copies to all TRAC members.

Dated: April 5, 2016.
Aaron Siegel,
Alternate OSD Federal Register Liaison Officer, Department of Defense.

[FR Doc. 2016-08113 Filed 4-7-16; 8:45 am]

BILLING CODE 5001-06-P